DEPARTMENT OF ENERGY

Federal Energy Regulatory Commission

Combined Notice of Filings #2

Take notice that the Commission received the following electric rate filings:

Docket Numbers: ER10-3145-008; ER10-3116-008; ER10-3120-008; ER11-2036-008; ER13-1544-005; ER10-3128-008; ER10-1800-009; ER10-3136-008; ER11-2701-010; ER10-1728-008; ER16-930-002.

Applicants: AES Alamitos, LLC, AES Energy Storage, LLC, AES Huntington Beach, L.L.C., AES Laurel Mountain, LLC, AES ES Tait, LLC, AES Redondo Beach, L.L.C., Indianapolis Power & Light Company, Mountain View Power Partners, LLC, Mountain View Power Partners IV, LLC, The Dayton Power and Light Company, AES Ohio Generation, LLC.

Description: Supplement to December 21, 2016 Triennial Market Power Analysis for Northeast Region of AES MBR Affiliates.

Filed Date: 4/25/17.

Accession Number: 20170425-5206.

Comments Due: 5 p.m. ET 5/16/17.

Docket Numbers: ER17-1469-000.

Applicants: Northern States Power Company, a Wisconsin corporation.

Description: Notice of cancellation of Transmission Line Coordinating Agreement No. 57 of Northern States Power Company, a Wisconsin corporation.

Filed Date: 4/25/17.

Accession Number: 20170425-5145.

Comments Due: 5 p.m. ET 5/16/17.

Docket Numbers: ER17-1470-000.

Applicants: Duke Energy Progress, LLC.

Description: § 205(d) Rate Filing: DEP-Revised PPAs RS Nos. 174-177 to be effective 7/1/2017.

Filed Date: 4/25/17.

Accession Number: 20170425-5246.

Comments Due: 5 p.m. ET 5/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2017.
Kimberly D. Bose,
Secretary.

[FR Doc. 2017-08796 Filed 5-1-17; 8:45 am]

BILLING CODE 6717-01-P